FEDERAL COMMUNICATIONS COMMISSION

Information Collection Being Submitted for Review and Approval to the Office of Management and Budget (OMB)

AGENCY: Federal Communications Commission (FCC).

ACTION: Notice; request for comments.

SUMMARY: As part of its continuing effort to reduce paperwork burden and as required by the Paperwork Reduction Act (PRA) of 1995 (44 U.S.C. 3502-3520), the FCC invites the general public and other Federal agencies to take this opportunity to comment on the following information collection. Comments are requested concerning: Whether the proposed collection of information is necessary for the proper performance of the functions of the Commission, including whether the information shall have practical utility; the accuracy of the Commission's burden estimates; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB Control Number. No person shall be subject to any penalty for failing to comply with a collection of information subject to the PRA that does not display a valid OMB Control Number.

DATES: Written PRA comments should be submitted on or before May 19, 2014. If you anticipate that you will be submitting PRA comments, but find it difficult to do so within the period of time allowed by this notice, you should advise the FCC contact listed below as soon as possible.

ADDRESSES: Submit your PRA comments to Nicholas A. Fraser, Office of Management and Budget (OMB), via fax at 202-395-5167, or via the Internet at Nicholas_A._Fraser@omb.eop.gov and to Leslie Smith, Office of Managing Director (OMD), Federal Communications Commission (FCC), via the Internet at Leslie.Smith@fcc.gov. To submit your PRA comments by email, please send them to: PRA@fcc.gov.

FOR FURTHER INFORMATION CONTACT: Leslie Smith, Office of Managing Director (OMD), Federal Communications Commission (FCC), at 202-418-0217, or via the Internet at: Leslie.Smith@fcc.gov.

SUPPLEMENTARY INFORMATION: OMB Control Number: 3060-XXXX.

Title: Rates for Inmate Calling Services Data Collection.

Form Number: N/A.

Type of Review: New collection.

Respondents: Business or other for profit.

Number of Respondents and Responses: 25 respondents; 25 responses.

Estimated Time per Response: 90 hours.

Frequency of Response: One-time reporting requirement and one-time recordkeeping requirement.

Obligation to Respond: Required to obtain or maintain benefits.

Total Annual Burden: 2,250 hours.

Total Annual Cost: None.

Privacy Act Impact Assessment: No impacts.

Nature and Extent of Confidentiality: The Commission anticipates providing confidential treatment for proprietary information submitted by ICS providers. Parties that comply with the terms of a protective order for the proceeding will have an opportunity to comment on the data.

Needs and Uses: The Commission's Report and Order and Further Notice of Proposed Rulemaking, Rates for Interstate Inmate Calling Services, in WC Docket No. 12-375, FCC 13-113 (78 FR 67956), required that all inmate calling service (ICS) providers comply with a one-time mandatory data collection. The Report and Order requires ICS providers to submit data on the costs of providing interstate, intrastate toll, and local ICS. Data required to be submitted include data on the costs of telecommunications service, interconnection fees, equipment investment, installation and maintenance, security, ancillary services, and other costs. Providers will also be required to provide certain related rate, demand, and forecast data. The data will be used to inform the Commission's evaluation of rate reform options in the FNPRM, to enable the Commission to transition from interim rate reform to permanent rate reform, and to enable the Commission to discharge its core responsibility of ensuring just, reasonable and fair rates as required by sections 201 and 276 by ensuring ICS rates are just, reasonable, and fair pursuant to sections 201(b) and 276 of the Communications Act of 1934, as amended.

Federal Communications Commission.
Marlene H. Dortch,
Secretary, Office of the Secretary, Office of Managing Director.

[FR Doc. 2014-08736 Filed 4-16-14; 8:45 am]

BILLING CODE 6712-01-P